DEPARTMENT OF ENERGY

Federal Energy Regulatory Commission

[Docket No. RP01-382-006]

Northern Natural Gas Company; Notice of Proposed Changes in FERC Gas Tariff

October 22, 2001.

Take notice that on October 16, 2001, Northern Natural Gas Company (Northern), tendered for filing as part of its FERC Gas Tariff, Fifth Revised Volume No. 1, the following tariff sheets proposed to be effective November 1, 2001.

58 Revised Sheet No. 50

59 Revised Sheet No. 51

26 Revised Sheet No. 52

Eighth Revised Sheet No. 56

Eighth Revised Sheet No. 263

Eighth Revised Sheet No. 263A

Fourth Revised Sheet No. 263B

Northern and the parties have reached a settlement in principle that resolves all issues in this proceeding as well as all issues in Northern's System Levelized Account (SLA) proceedings in Docket Nos. RP01-76 and RP01-396. The reason for this filing is to request permission to implement effective November 1, 2001, a Carlton Commodity Surcharge of $0.0175, subject to refund and subject to the outcome of Commission action on a settlement that will be filed in the near future.

Northern further states that copies of the filing have been mailed to each of its customers and interested State Commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

David P. Boergers,
Secretary.

[FR Doc. 01-26976 Filed 10-25-01; 8:45 am]

BILLING CODE 6717-01-M